CIVIL RIGHTS COMMISSION

Sunshine Act Meeting Notice

AGENCY: United States Commission on Civil Rights.

ACTION: Notice of Commission public business meeting.

DATES: Friday May 8, 2020, 10:00 a.m. ET.

FOR FURTHER INFORMATION CONTACT: Zakee Martin: (202) 376-7700; publicaffairs@usccr.gov.

ADDRESSES: Meeting to take place by telephone and open to the public by telephone: 1-800-758-9512, Conference ID 402-5614. Computer assisted real-time transcription (CART) will be provided. The web link to access CART (in English) on Friday, May 8, 2020, is https://www.streamtext.net/player?event=USCCR. Please note that CART is text-only translation that occurs in real time during the meeting and is not an exact transcript.

Meeting Agenda

I. Approval of Agenda

II. Business Meeting

A. Presentation by Anne Lofaso, Member, of West Virginia Advisory Committee on the Committee's Advisory Memorandum on the Interaction Between Individuals with Mental Health Issues and the Criminal Justice System in West Virginia

B. Presentation by Mildred Edwards, Chair, of Kansas Advisory Committee on the Committee's report, Civil Rights and Education Funding in Kansas

C. Discussion and vote on Commission Advisory Committees

• Chair of Rhode Island Advisory Committee

• Chair of South Dakota Advisory Committee

• Nevada Advisory Committee

• Tennessee Advisory Committee

D. Update from Staff Director on virtual briefings

E. Management and Operations

• Staff Director's Report

III. Adjourn Meeting.

Dated: April 28, 2020.
David Mussatt,
Supervisory Chief, Regional Programs Unit.

[FR Doc. 2020-09381 Filed 4-30-20; 11:15 am]

BILLING CODE P